DEPARTMENT OF HEALTH AND HUMAN SERVICES

Centers for Medicare & Medicaid Services

[CMS-2430-N]

Medicaid Program; Connecting Kids to Coverage Outreach and Enrollment Cooperative Agreement

AGENCY: Centers for Medicare & Medicaid Services (CMS), HHS.

ACTION: Notice.

SUMMARY: The purpose of this notice is to announce a single source emergency cooperative agreement funding opportunity available solely to the Greater Flint Health Coalition to reduce the number of children in Flint, Michigan who are eligible for Medicaid and CHIP, but are not enrolled, and improve retention of children enrolled.

DATES: 3 years, composed of three 12-month budget periods. The maximum funding amount for the first 12-month budget period is $100,000. The Greater Flint Health Coalition will be eligible to receive an additional $100,000 per year for the second and third 12-month budget periods.

FOR FURTHER INFORMATION CONTACT: Patrick M. Edwards, Project Officer, 410-786-4463.

SUPPLEMENTARY INFORMATION:

I. Background

On January 16, 2016, President Obama declared an emergency in the State of Michigan and ordered federal aid to supplement state and local efforts in response to the lead exposure related to the Flint, Michigan water system. On March 3, 2016, we approved the State of Michigan's 1115 demonstration, which (along with associated state plan amendments) extended Medicaid coverage and services to children up to age 21 years and to pregnant women with incomes up to and including 400 percent of the federal poverty level (FPL) who were served by the Flint water system from April 2014 through a state-specified date. To maximize outreach efforts to the significant number of children newly eligible for coverage, the Secretary for the Department of Health and Human Services (DHHS) has expressed interest in utilizing $300,000 of outreach funding available under the Medicare Access and CHIP Reauthorization Act (MACRA) (Pub. L. 114-10, enacted on April 16, 2015) to support and coordinate outreach and enrollment efforts in Flint, Michigan to address the urgent health coverage needs of children exposed to lead related to the Flint water system. The MACRA funds will be used to support the immediate need for an outreach and enrollment coordinator to educate current beneficiaries and applicants about the availability of important Medicaid benefits for children impacted by the lead exposure that began in April 2014 and continues to pose a risk. This exposure can cause negative developmental neurocognitive effects. Funds will be used for activities aimed at educating families about the availability of free or low-cost health coverage under Medicaid and CHIP,¹ identifying children likely to be eligible for these programs, assisting families with the application, as well as supporting the renewal of children in Medicaid and CHIP.

¹ On January 1, 2016, Michigan transitioned most of the children in its separate CHIP to a Medicaid expansion CHIP. The only children remaining in the separate CHIP are children from conception to birth, as defined in 42 CFR 457.10, with family income up to and including 195 percent of the Federal Poverty Level. Outreach and enrollment efforts will be directed to children who are eligible for Medicaid, as well as this CHIP population, to address the urgent health coverage needs of children exposed to lead contaminated water.

II. Provisions of the Notice

The purpose of this notice is to announce a single source emergency cooperative agreement funding opportunity available solely to the Greater Flint Health Coalition to reduce the number of children in Flint, Michigan who are eligible for Medicaid and CHIP, but are not enrolled, and improve retention of children enrolled. A single-source award to the Greater Flint Health Coalition will enable CMS to expeditiously provide emergency assistance to Flint, Michigan for the following purposes: To coordinate and promote activities aimed at educating families about the availability of free or low-cost health coverage under Medicaid and CHIP, identify children likely to be eligible for these programs, assist families with the application and renewal process, instruct current beneficiaries and applicants about the evaluation of potential lead exposure in the homes, communicate other benefits available to individuals eligible for services through the Flint demonstration, and ensure that such communication with individuals with disabilities and with individuals who are limited English proficient are in compliance with applicable civil rights laws, including Section 504 of the Rehabilitation Act and Title VI of the Civil Rights Act of 1964.

To provide these essential services as quickly as possible to reduce the potential long term effects caused by lead exposure, this single source emergency funding opportunity must solely be available to the Greater Flint Health Coalition (GFHC) which is uniquely positioned to meet the goals of the emergency cooperative agreement based on the organization's location, capacity, partnerships, resources, prior experience, and ability to begin implementing the project immediately. Prior to the water crisis in Flint, the GFHC worked to significantly improve the health status of Flint residents by establishing a common health agenda and instituting a shared measurement system among local hospitals with mutually reinforcing health activities. In addition, this organization currently administers programs that involve a variety of constituents important to reaching and enrolling children in Medicaid and CHIP, such as schools, health homes, safety net providers, and various government organizations. The GFHC's presence in the greater Flint community enabled them to become an early leader in alerting the public about the lead exposure related to the Flint water system.

Utilizing the funding under this single-source award, the GFHC will be able to immediately hire an outreach and enrollment coordinator to educate beneficiaries about Medicaid and CHIP services available to affected children and families in Flint, Michigan and to coordinate community-based activities designed to support Medicaid enrollment for eligible children. More broadly, this funding will enable the GFHC to address the lead exposure related to the Flint water system by promoting critical public health, medical, and community-based services and interventions that address and mitigate the detrimental short and long term impacts of lead. Due to these reasons and the GFHC's cross sector collaboration with Genesee County's public health leadership, physicians, hospitals, and health insurers, GFHC has the full capacity to begin implementation of the project tasks immediately.

III. Collection of Information Requirements

This document does not impose information collection requirements, that is, reporting, recordkeeping or third-party disclosure requirements. Consequently, there is no need for review by the Office of Management and Budget under the authority of the Paperwork Reduction Act of 1995 (44 U.S.C. 3501 et seq.).

Dated: August 16, 2016.
Andrew M. Slavitt,
Acting Administrator, Centers for Medicare & Medicaid Services.

[FR Doc. 2016-19999 Filed 8-19-16; 8:45 am]

BILLING CODE 4120-01-P